DEPARTMENT OF THE INTERIOR

Fish and Wildlife Service

National Park Service

[Docket No. FWS-HQ-NWRS-2023-0180; FF09R23000/FXRS126109AQ000/234]

Federal Land Managers' Air Quality Related Values Work Group (FLAG); Draft Addendum to 2010 Phase 1 Report

AGENCY: Fish and Wildlife Service and National Park Service, Interior (DOI).

ACTION: Notice of availability.

SUMMARY: We, the U.S. Fish and Wildlife Service, in cooperation with the National Park Service, and the U.S. Department of Agriculture's Forest Service (the agencies), publish this notice to announce the availability of a draft addendum to the Federal Land Managers' Air Quality Related Values Work Group's (FLAG's) Phase 1 Report, which the agencies last revised in 2010 (FLAG 2010 report). We are proposing an addendum to include a provision related to temporary emissions. We invite comments and information on the draft addendum from the public and local, State, Tribal, and Federal agencies.

DATES: We must receive comments by December 28, 2023.

ADDRESSES:

Obtaining Documents: The draft addendum to the FLAG 2010 report, and any comments and other materials that we receive, will be available for public inspection at https://www.regulations.gov in Docket No. FWS-HQ-NWRS-2023-0180. For reviewer convenience, we also will make the FLAG 2010 report available for review in https://www.regulations.gov; however, we are not taking comments on that final document.

Submitting Comments: You may submit written comments by one of the following methods. Please do not submit comments by both methods.

• Online: https://www.regulations.gov. Follow the instructions for submitting comments to Docket No. FWS-HQ-NWRS-2023-0180.

• U.S. Mail: Public Comments Processing, Attn: FWS-HQ-NWRS-2023-0180; U.S. Fish and Wildlife Service, MS: PRB/3W, 5275 Leesburg Pike, Falls Church, VA 22041-3803. Please note in your submission that your comments are regarding the FLAG 2010 report addendum. We will post all information received on https://www.regulations.gov. This generally means that we will post any personal information you provide us.

FOR FURTHER INFORMATION CONTACT: Jaron Ming, Chief, Branch of Air and Water Resources, by phone at 720-926-3528 or via email at jaron_ming@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

The United States Department of the Interior (DOI), the U.S. Fish and Wildlife Service, and the National Park Service, in coordination with the U.S. Department of Agriculture (USDA), the Forest Service (the agencies) publish this notice to announce the availability of a draft addendum to the Federal Land Managers' Air Quality Related Values Work Group's Phase 1 Report, which the agencies last revised in 2010 (FLAG 2010 report). We are proposing an addendum to add a contextual consideration provision to the FLAG 2010 report concerning the FLM's analysis of temporary emissions for overall low-emitting facilities. We invite comments and information from the public and local, State, Tribal, and Federal agencies.

Background

FLAG was formed by the Department of the Interior's National Park Service and U.S. Fish and Wildlife Service, and the U.S. Department of Agriculture's Forest Service, (1) to develop a more consistent and objective approach for these agencies' Federal land managers (FLMs) to evaluate air pollution effects on their air quality related values (AQRVs) in Federal class I areas, as defined by the Clean Air Act, and (2) to provide State permitting authorities and potential permit applicants consistency on how to assess the impacts of new and existing sources on AQRVs.

The FLAG effort focuses on the effects of the air pollutants that could affect the health and status of resources in areas managed by the agencies, primarily such pollutants as ozone, particulate matter, nitrogen dioxide, sulfur dioxide, nitrates, and sulfates.

The initial FLAG Phase 1 Report was published in 2000. On October 27, 2010, the National Park Service, in cooperation with the U.S. Fish and Wildlife Service and the Forest Service, published a revised FLAG report (75 FR 66125). This notice announces the availability of a draft addendum to the FLAG 2010 revision to add a contextual consideration to FLAG 2010 report concerning the FLM's analysis of temporary emissions for overall low-emitting facilities. The draft addendum would not change the FLM's role or affirmative responsibilities under the Clean Air Act. The draft addendum seeks to assist FLAG 2010 report users by describing how the FLMs will consider temporary emission for overall low-emitting facilities as it analyzes effects to AQRVs in Federal class I areas as part of the FLMs responsibilities under the Clean Air Act.

Authority: Clean Air Act of 1970, as amended (42 U.S.C. 7401 et seq.).

Shannon A. Estenoz,
Assistant Secretary for Fish and Wildlife and Parks.

[FR Doc. 2023-26218 Filed 11-27-23; 8:45 am]

BILLING CODE 4333-15-P